ENVIRONMENTAL PROTECTION AGENCY

[EPA-HQ-OAR-2020-0415; FRL-12116-01-OAR]

Agency Information Collection Activities; Proposed Information Collection Request; Comment Request; Implementation of the 8-Hour National Ambient Air Quality Standards for Ozone (Renewal)

AGENCY: Environmental Protection Agency (EPA).

ACTION: Notice.

SUMMARY: The Environmental Protection Agency (EPA) is planning to submit an Information Collection Request (ICR), Implementation of the 8-hour National Ambient Air Quality Standards for Ozone (Renewal) (EPA ICR Number: 2347.05, OMB Control Number: 2060-0695) to the Office of Management and Budget (OMB) for review and approval in accordance with the Paperwork Reduction Act (PRA). Before doing so, the EPA is soliciting public comments on specific aspects of the proposed information collection as described later. This is a proposed extension of the ICR, which is currently approved through January 31, 2025. This document allows 60 days for public comments.

DATES: Comments must be submitted on or before October 15, 2024.

ADDRESSES: Submit your comments, referencing Docket ID Number EPA-HQ-OAR-2020-0415, to EPA online using https://www.regulations.gov (our preferred method) or by mail to: EPA Docket Center, Environmental Protection Agency, Mail Code 28221T, 1200 Pennsylvania Avenue NW, Washington, DC 20460. EPA's policy is that all comments received will be included in the public docket without change, including any personal information provided, unless the comment includes profanity, threats, information claimed to be Confidential Business Information (CBI), or other information whose disclosure is restricted by statute.

FOR FURTHER INFORMATION CONTACT: Mr. Francis Oggeri, Office of Air Quality Planning and Standards, C504-05, 109 T.W. Alexander Drive, Research Triangle Park, North Carolina 27711; telephone number: (919) 541-3255; email address: oggeri.francis@epa.gov.

SUPPLEMENTARY INFORMATION: This is a proposed extension of the ICR, which is currently approved through January 31, 2025. An agency may not conduct or sponsor a collection of information, and a person is not required to respond to it unless it displays a currently valid OMB control number.

This document allows 60 days for public comments. Supporting documents, which explain in detail the information that the EPA will be collecting, are available in the public docket for this ICR. The docket can be viewed online at https://www.regulations.gov or in person at the EPA Docket Center, WJC West, Room 3334, 1301 Constitution Avenue NW, Washington, DC. The telephone number for the Docket Center is (202) 566-1744. For additional information about EPA's public docket, visit https://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. The EPA will consider the comments received and amend the ICR as appropriate. The final ICR package will then be submitted to OMB for review and approval. At that time, the EPA will issue another Federal Register document to announce the submission of the ICR to OMB and the opportunity to submit additional comments to OMB.

Abstract: The original ozone ICR No. 2347.01 that applied to the 2008 8-hour ozone NAAQS was issued after the ozone NAAQS was revised in 2012. The original ICR was renewed as No. 2347.02 for the period February 1, 2015, through January 31, 2018. The ICR No. 2347.02 was renewed in ICR No. 2347.03 for the period February 1, 2018, through January 31, 2021. The ICR No. 2347.03 was renewed in ICR No. 2347.04 for the period February 1, 2021, through January 31, 2025. The ICR No. 2347.01, 2347.02, and 2347.03 renewals applied to the 2008 8-hour ozone NAAQS before the ozone NAAQS was revised in 2015. The ICR renewal currently approved by OMB, ICR No. 2347.04, added the burden of implementing the 2015 8-hour ozone NAAQS and continued implementation of the 2008 and 1997 8-hour NAAQS requirements. This proposed ICR renewal continues to address all applicable State Implementation Plan (SIP) requirements for the remaining 2015 and 2008 ozone NAAQS nonattainment areas. This ICR will be effective from February 1, 2025, through January 31, 2028. States with nonattainment areas for the 2008 and 2015 ozone National Ambient Air Quality Standards (NAAQS) are implementing the NAAQS under the Clean Air Act (CAA) and EPA-issued implementation regulations issued for that NAAQS. The state activities include, but are not limited to, developing and submitting attainment demonstrations, reasonable further progress (RFP) plans, reasonably available control technology (RACT) determinations, and maintenance plans. This proposed ICR renewal estimates the burden for states to meet the ongoing planning requirements that apply to their remaining nonattainment areas for the 2008 and 2015 NAAQS for the period covering February 1, 2025, to January 31, 2028. These requirements primarily result from 2015 ozone Moderate nonattainment areas that may fail to attain the NAAQS by their attainment date during this period and are reclassified to Serious with SIP revisions required from the states. In addition, this ICR renewal includes burden estimates for state and EPA activities related to redesignation requests for the 2018 and 2015 ozone NAAQS, and second maintenance plans for the 2008 NAAQS.

The burden estimates for states in this ICR renewal include the states burden to develop and submit attainment plans to meet the requirements prescribed in CAA sections 110 and part D, subparts 1 and 2 of Title I as interpreted by EPA's ozone NAAQS SIP requirements rules. An ozone NAAQS attainment plan contains state rules and other measures designed to improve air quality and achieve the NAAQS by the deadlines established under the CAA. It also must address several additional CAA requirements related to demonstrating timely attainment and contain contingency measures if the nonattainment area does not achieve reasonable further progress throughout the attainment period or if the area does not attain the NAAQS by its attainment date. The burden estimate for states for the 2008 NAAQS accounts for 25 nonattainment areas. Six former nonattainment areas, also referred to as maintenance areas, have second maintenance plans due during the ICR period, and 19 nonattainment areas are eligible for redesignation to attainment based on 2021-2023 air quality data. Because some nonattainment areas for the 2008 ozone standards comprise portions of two or more states, the 25 nonattainment areas result in up to 32 total responses from states. The burden estimate for the 2015 NAAQS accounts for 28 nonattainment areas with SIP revisions expected to be due from their respective states. Because some nonattainment areas for the 2015 ozone standards are comprised of portions of two or more states, the 28 nonattainment areas result in up to 38 total responses from states. Out of these 28 nonattainment areas, 6 nonattainment areas are eligible for redesignation to attainment, 19 nonattainment areas are currently classified as Moderate that could be reclassified to Serious, and 3 areas received voluntary reclassifications from Moderate to Serious that will have SIP revisions due during the ICR renewal period covering February 1, 2025, to January 31, 2028. The nonattainment areas currently classified as Moderate that could be reclassified to Serious will be subject to additional attainment planning requirements if the areas fail to attain the NAAQS by the August 3, 2024, attainment date. Such Serious area SIPs will be due within about 12 months from the date of reclassification, which would be during the reporting period for this ICR. This ICR estimates that the states' average yearly burden is 63,000 hours, with a 3-year burden of 189,000 hours and estimated costs of $15,615,887 for the 3-year burden.

The burden estimates for the EPA included in this ICR renewal include the EPA burden to review and to approve or disapprove the four primary requirements that apply to states with nonattainment areas for the 2008 Ozone NAAQS and 2015 Ozone NAAQS: the attainment demonstration, the RFP SIP submission, the RACT SIP submission, and a maintenance plan. Additional obligations are the second maintenance plan SIP revisions for a few areas subject to ongoing requirements to implement the 2008 Ozone NAAQS and the burden of developing the required SIP revisions for the two tribal areas that are eligible for reclassification to attainment. Tribes may develop or submit attainment plans but are not required to do so. This ICR estimates the EPA's estimated average burden is 7,663 hours annually, with a 3-year burden of 22,990 hours and estimated costs of $1,899,520 for the 3-year burden.

Form numbers: None.

Respondents/affected entities: State and Local government.

Respondent's obligation to respond: Mandatory.

Estimated number of respondents: 70 (total).

Frequency of response: Once per triggering event, e.g., an air agency is required to revise and submit a SIP revision when an area under its jurisdiction is initially designated nonattainment or reclassified to a higher classification. For areas that are redesignated to attainment, an air agency is also required to submit an initial 10-year maintenance plan, and eight years later a second 10-year maintenance plan.

Total estimated burden: 63,000 hours (per year). Burden is defined at 5 CFR 1320.03(b).

Total estimated cost: $5,205,295.62 (per year), which includes $0 annualized capital or operation and maintenance costs.

Changes in the estimates: There is a decrease in the annual state's burden of $56,133 hours below the 119,133 hours estimated from the previous ICR. The EPA estimates the total burden for state respondents to be 189,000 hours over the next 3 years compared to 357,399 hours for state respondents during the period of the 8-hour ozone NAAQS ICR currently approved by OMB (EPA ICR No. 2347.04). This decrease is generally due to fewer ozone program requirements coming due during the next 3 years compared to the previous ICR. There are both fewer active ozone nonattainment areas to trigger applicable requirements, and the incremental burden of triggered SIP revisions is expected to be lower than the overall SIP burden associated with areas when they are initially designated nonattainment. The previous ICR accounted for 96 respondents compared to 70 respondents for this renewal period. For the previous ICR, the majority of the burden hours and cost came from the foundational set of SIP requirements due for the 2015 8-hour ozone NAAQS for all 52 areas initially designated in 2018 as nonattainment. Additionally, the previous ICR accounted for the reclassification of 2008 8-hour ozone NAAQS nonattainment areas from Serious to Severe, in addition to second maintenance plan development for the 2008 and 1997 ozone NAAQS. In comparison, this ICR renewal burden hours and costs are accounting for the fewer incremental SIP requirements for the 2015 8-hour NAAQS for reclassification of nonattainment areas from Moderate to Serious (19 nonattainment areas), and second 10-year maintenance plans coming due only for the 2008 ozone NAAQS.

The burden estimate is detailed in the supporting statement located in the docket for this proposed ICR. The adjustments to the cost assumptions are summarized in sections 6(b) and 6(c) of the supporting statement. Cost estimates for the ICR renewal are based on estimates calculated using 2024 dollars.

Scott Mathias,
Director, Air Quality Planning and Standards.

[FR Doc. 2024-18247 Filed 8-14-24; 8:45 am]

BILLING CODE 6560-50-P